OFFICE OF THE TRADE REPRESENTATIVE

2005-2006 Allocations of the Tariff-Rate Quotas for Raw Cane Sugar

AGENCY: Office of the United States Trade Representative.

ACTION: Notice.

SUMMARY: The Office of the United States Trade Representative (USTR) is providing notice of additional country-by-country allocations of the in-quota quantity of the tariff-rate quota for imported raw cane sugar beginning on October 1, 2005 and ending on September 30, 2006.

EFFECTIVE DATE: December 19, 2005.

ADDRESSES: Inquiries may be mailed or delivered to Sharon Bomer Lauritsen, Deputy Assistant U.S. Trade Representative, Office of Agricultural Affairs, Office of the United States Trade Representative, 600 17th Street, NW., Washington, DC 20508.

FOR FURTHER INFORMATION CONTACT: Sharon Bomer Lauritsen, Office of Agricultural Affairs, 202-395-6127.

SUPPLEMENTARY INFORMATION: Pursuant to Additional U.S. Note 5 to chapter 17 of the Harmonized Tariff Schedule of the United States (HTS), the United States maintains a tariff-rate quota for imports of raw cane sugar.

Section 404(d)(3) of the Uruguay Round Agreements Act (19 U.S.C. 3601(d)(3)) authorizes the President to allocate the in-quota quantity of a tariff-rate quota for any agricultural product among supplying countries or customs areas. The President delegated this authority to the United States Trade Representative under Presidential Proclamation 6763 (60 FR 1007).

The in-quota quantity of the tariff-rate quota for raw cane sugar for the period October 1, 2005-September 30, 2006, was increased by the Secretary of Agriculture by 300,000 short tons, raw value (272,155 metric tons). This quantity is being allocated to the following countries:

Country | FY 2006 Additional Allocation (metric tons)
Argentina | 11,797
Australia | 22,771
Barbados | 1,920
Belize | 3,018
Bolivia | 2,195
Brazil | 39,781
Colombia | 6,584
Costa Rica | 4,115
Dominican Republic | 48,286
Ecuador | 3,018
El Salvador | 7,133
Fiji | 2,469
Guatemala | 13,169
Guyana | 3,292
Honduras | 2,744
India | 2,195
Jamaica | 3,018
Malawi | 2,744
Mauritius | 3,292
Mozambique | 3,567
Nicaragua | 5,761
Panama | 7,956
Peru | 11,248
Philippines | 37,037
South Africa | 6,310
Swaziland | 4,390
Taiwan | 3,292
Thailand | 3,841
Trinidad-Tobago | 1,920
Zimbabwe | 3,292

These allocations are based on the countries' historical shipments to the United States. The allocations of the raw cane sugar tariff-rate quota to countries that are net importers of sugar are conditioned on receipt of the appropriate verifications of origin.

Conversion factor: 1 metric ton = 1.10231125 short tons.

Rob Portman,
United States Trade Representative.

[FR Doc. E5-7479 Filed 12-16-05; 8:45 am]

BILLING CODE 3190-W5-P